SECURITIES AND EXCHANGE COMMISSION

[Release No. 34-76955A; File No. SR-NYSEArca-2015-93]

Self-Regulatory Organizations; NYSE Arca, Inc.; Notice of Designation of a Longer Period for Commission Action on Proposed Rule Change, as Modified by Amendment No. 1, Relating to Listing and Trading of Shares of the Cumberland Municipal Bond ETF Under NYSE Arca Equities Rule 8.600; Correction

March 2, 2016.

AGENCY: Securities and Exchange Commission.

ACTION: Correction.

SUMMARY: The Securities and Exchange Commission published a document in the Federal Register on January 27, 2016 (81 FR 4724), concerning a Notice of Designation of a Longer Period for Commission Action on Proposed Rule Change, as Modified by Amendment No. 1, Relating to Listing and Trading of Shares of the Cumberland Municipal Bond ETF under NYSE Arca Equities Rule 8.600. The document contained a typographical error.

FOR FURTHER INFORMATION CONTACT: Kristie Diemer, Division of Trading and Markets, Securities and Exchange Commission, 100 F Street NE., Washington, DC 20549, (202) 551-5613.

Correction

In the Federal Register of January 27, 2016, in FR Doc. 2016-01536, on page 4724, in the third line in the second column, correct the reference “April 27, 2016” to read “March 11, 2016.”

Robert W. Errett,
Deputy Secretary.

[FR Doc. 2016-05045 Filed 3-7-16; 8:45 am]

BILLING CODE 8011-01-P